DEPARTMENT OF DEFENSE

Department of the Army; Corps of Engineers

Transfer of Jurisdiction of a Portion of Joliet Army Ammunition Plant to the Department of Agriculture for the Midewin National Tallgrass Prairie

AGENCY: U.S. Army Corps of Engineers, DoD.

ACTION: Notice.

SUMMARY: On 02 September 2005, in accordance with PL 104-106, Title XXIX, Subtitle A, entitled “Illinois Land Conservation Act of 1995”, the Department of the Army signed a Secretariat Memorandum to transfer approximately 2,640 Acres of land at Joliet Army Ammunition Plant, Illinois to the Department of Agriculture for use by the Forest Service as the Midewin National Tallgrass Prairie. The purpose of this notice is to effect that transfer pursuant to the provisions of Section 2912(e)(2) of PL 104-106.

This is a partial transfer of the entire acreage contemplated by the statute. Additional transfers will be made in the future. A map entitled “2004 USDA Assignment Parcel Locator Map” and legal descriptions of the MFG area revised 18 January 2005 and of the LAP area revised 11 August 2005 of the property which is the subject of the partial transfer are on file with the U.S. Army Engineer District, Corps of Engineers, Louisville, Kentucky and the Office of the Regional Forester, USDA, Forest Service.

FOR FURTHER INFORMATION CONTACT: Mr. Albert J. Edwardo, 502-315-6969.

ADDRESSES: Documents are on file at locations:

1. U.S. Army Engineer District, Louisville, Corps of Engineers, P.O. Box 59, Louisville, Kentucky 40201-0059.

2. Office of the Regional Forester, USDA, Forest Service, 626 East Wisconsin Avenue, Suite 800, Milwaukee, Wisconsin 53203.

SUPPLEMENTARY INFORMATION: None.

Michael G. Barter,
Chief, Real Estate Division.

[FR Doc. 05-19217 Filed 9-26-05; 8:45 am]

BILLING CODE 3710-92-P